NUCLEAR REGULATORY COMMISSION

[Docket Nos. 50-317, 50-318, 50-445, 50-446, 50-373, 50-374, 50-220, and 50-410; NRC-2020-0110]

Issuance of Multiple Exemptions in Response to COVID-19 Public Health Emergency

AGENCY: Nuclear Regulatory Commission.

ACTION: Exemptions; issuance.

SUMMARY: The U.S. Nuclear Regulatory Commission (NRC) issued four exemptions in response to requests from two licensees. The exemptions afford these licensees temporary relief from certain requirements under NRC regulations. The exemptions are in response to the licensees' requests for relief due to the coronavirus disease 2019 (COVID-19) public health emergency (PHE). The NRC is issuing a single notice to announce the issuance of the exemptions.

DATES: During the period from February 2, 2021, to February 23, 2021, the NRC granted four exemptions in response to requests submitted by two licensees from January 21, 2021, to February 8, 2021.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nc.gov.

SUPPLEMENTARY INFORMATION:

I. Introduction

During the period from February 2, 2021, to February 23, 2021, the NRC granted four exemptions in response to requests submitted by two licensees from January 21, 2021, to February 8, 2021. These exemptions temporarily allow the licensees to deviate from certain requirements of part 26, “Fitness for Duty Programs,” of chapter I of title 10 of the Code of Federal Regulations (10 CFR).

The exemptions from certain requirements of 10 CFR part 26, “Fitness for Duty Programs,” for Exelon Generation Company, LLC (for Calvert Cliffs Nuclear Power Plant, Units 1 and 2; LaSalle County Station, Units 1 and 2; and Nine Mile Point Nuclear Station, Units 1 and 2) and for Vistra Operations Company LLC (for Comanche Peak Nuclear Power Plant, Unit Nos. 1 and 2) afford these licensees temporary relief from the work-hour controls under10 CFR 26.205(d)(1) through (d)(7). The exemptions from 10 CFR 26.205(d)(1) through (d)(7) ensure that the control of work hours and management of worker fatigue does not unduly limit licensee flexibility in using personnel resources to most effectively manage the impacts of the COVID-19 PHE on maintaining the safe operation of these facilities. Specifically, these licensees have stated that their staffing levels are affected or are expected to be affected by the COVID-19 PHE, and they can no longer meet or likely will not meet the work-hour controls of 10 CFR 26.205(d)(1) through (d)(7). These licensees have committed to effecting site-specific COVID-19 PHE fatigue-management controls for personnel specified in 10 CFR 26.4(a).

The NRC is providing compiled tables of exemptions using a single Federal Register notice for COVID-19 related exemptions instead of issuing individual Federal Register notices for each exemption. The compiled tables in this notice provide transparency regarding the number and type of exemptions the NRC has issued. Additionally, the NRC publishes tables of approved regulatory actions related to the COVID-19 PHE on its public website at https://www.nrc.gov/about-nrc/covid-19/reactors/licensing-actions.html.

II. Availability of Documents

The tables in this notice provide the facility name, docket number, document description, and ADAMS accession number for each exemption issued. Additional details on each exemption issued, including the exemption request submitted by the respective licensee and the NRC's decision, are provided in each exemption approval listed in the tables in this notice. For additional directions on accessing information in ADAMS, see the ADDRESSES section of this document.

Calvert Cliffs Nuclear Power Plant, Units 1 and 2
[Docket Nos. 50-317 and 50-318]
Document description | ADAMS accession No.
Calvert Cliffs Nuclear Plant, Units 1 and 2—COVID-19 Related Request for Exemption from 10 CFR part 26 Work Hours Requirements, dated January 21, 2021 | ML21022A009
Calvert Cliffs Nuclear Power Plant, Units 1 and 2—Exemption from Select Requirements of 10 CFR part 26 (EPID L-2021-LLE-0005 [COVID-19]), dated February 18, 2021 | ML21029A336

Comanche Peak Nuclear Power Plant, Unit Nos. 1 and 2
[Docket Nos. 50-445 and 50-446]
Document description | ADAMS accession No.
Comanche Peak Nuclear Power Plant, Unit Nos. 1 and 2—Subsequent Request for Exemption from Specific Requirements of 10 CFR part 26, “Fitness for Duty Programs,” dated February 8, 2021 | ML21039A688
Comanche Peak Nuclear Power Plant, Unit Nos. 1 and 2—Supplement to Subsequent Request for Exemption from Specific Requirements of 10 CFR part 26, “Fitness for Duty Programs,” dated February 9, 2021 | ML21040A512
Comanche Peak Nuclear Power Plant, Unit Nos. 1 and 2—Second Supplement to Subsequent Request for Exemption from Specific Requirements of 10 CFR part 26, “Fitness for Duty Programs,” dated February 10, 2021 | ML21041A541
Comanche Peak Nuclear Power Plant, Unit Nos. 1 and 2—Exemption from Select requirements of 10 CFR part 26 (EPID L-2021-LLE-0009 [COVID-19]), dated February 11, 2021 | ML21040A001

LaSalle County Station, Units 1 and 2
[Docket Nos. 50-373 and 50-374]
Document description | Adams accession No.
LaSalle County Station, Units 1 and 2—Subsequent Request for Exemption from 10 CFR part 26 Work Hours Requirements, dated January 22, 2021 | ML21022A372
LaSalle County Station, Units 1 and 2—Exemption from Select Requirements of 10 CFR part 26 (EPID L-2021-LLE-0004 [COVID-19]), dated February 2, 2021 | ML21025A294

Nine Mile Point Nuclear Station, Units 1 and 2
[Docket Nos. 50-220 and 50-410]
Document description | Adams accession No.
Nine Mile Point Nuclear Station, Units 1 and 2—COVID-19 Related Request for Exemption from 10 CFR part 26 Work Hours Requirements, dated January 22, 2021 | ML21022A230
Nine Mile Point Nuclear Station, Units 1 and 2—Exemption from Select Requirements of 10 CFR part 26 (EPID L-2021-LLE-0006 [COVID-19]), dated February 23, 2021 | ML21029A309

Dated: March 9, 2021.
For the Nuclear Regulatory Commission.
James G. Danna,
Chief, Plant Licensing Branch I, Division of Operating Reactor Licensing, Office of Nuclear Reactor Regulation.

[FR Doc. 2021-05268 Filed 3-12-21; 8:45 am]

BILLING CODE 7590-01-P